DEPARTMENT OF STATE

[Public Notice 8206]

30-Day Notice of Proposed Information Collection: DS-2028, Overseas Schools Grant Status Report, OMB 1405-0033

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to March 29, 2013.

ADDRESSES: Keith Miller, Department of State, Office of Overseas Schools, A/OPR/Os, Room H328, SA-1, Washington, DC 20522-0103, who is reachable on 202-261-8200. Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Wanda Lyles, Department of State, Office of Overseas Schools, A/OPR/OS, Room H328, SA-1, Washington, DC 20522-0103, who is reachable on 202-261-8200 or lyleswm2@state.gov.

SUPPLEMENTARY INFORMATION:

• Title of Information Collection: DS-2028, Overseas Schools Grant Status Report

• OMB Control Number: OMB 1405-0033

• Type of Request: Extension of a Currently Approved Collection

• Originating Office: Office of Overseas Schools, A/OPR/OS

• Form Number: DS-2028

• Respondents: Overseas schools grantees

• Estimated Number of Respondents: 196

• Estimated Number of Responses: 196

• Average Time per Response: 15 minutes

• Total Estimated Burden Time: 49 hours

• Frequency: Annually

• Obligation to Respond: Required to Retain a Benefit

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: The Office of Overseas Schools of the Department of State (A/OPR/OS) is responsible for determining that adequate educational opportunities exist at Foreign Service Posts for dependents of U.S. Government personnel stationed abroad, and for assisting American-sponsored overseas schools to demonstrate U.S. educational philosophy and practice. The information gathered provides the technical and professional staff of A/OPR/OS the means by which obligations, expenditures and reimbursements of the grant funds are monitored to ensure the grantee is in compliance with the terms of the grant.

Methodology: Information is collected via electronic and paper submission.

Dated: February 8, 2013.
William S. Amoroso,
Executive Director, Bureau of Administration, Department of State.

[FR Doc. 2013-04587 Filed 2-26-13; 8:45 am]

BILLING CODE 4710-24-P